DEPARTMENT OF THE INTERIOR

Minerals Management Service

Agency Information Collection Activities: Submitted for Office of Management and Budget (OMB) Review; Comment Request

AGENCY: Minerals Management Service (MMS), Interior.

ACTION: Notice of extension of an information collection (1010-0048).

SUMMARY: To comply with the Paperwork Reduction Act of 1995 (PRA), we are notifying the public that we have submitted to OMB an information collection request (ICR) to renew approval of the paperwork requirements in the regulations under 30 CFR 251, “Geological and Geophysical (G&G) Explorations of the Outer Continental Shelf.” This notice also provides the public a second opportunity to comment on the paperwork burden of these regulatory requirements.

DATES: Submit written comments by May 15, 2003.

ADDRESSES: You may submit comments directly to the Office of Information and Regulatory Affairs, OMB, Attention: Desk Officer for the Department of the Interior (1010-0048), 725 17th Street, NW., Washington, DC 20503. Mail or hand-carry a copy of your comments to the Department of the Interior; Minerals Management Service; Attention: Rules Processing Team; Mail Stop 4024; 381 Elden Street; Herndon, Virginia 20170-4817. If you wish to e-mail your comments to MMS, the address is: rules.comments@MMS.gov. Reference Information Collection 1010-0048 in your subject line and mark your message for return receipt. Include your name and return address in your message text.

FOR FURTHER INFORMATION CONTACT: Arlene Bajusz, Rules Processing Team, telephone (703) 787-1600. You may also contact Arlene Bajusz to obtain a copy, at no cost, of the regulations that require the subject collection of information.

SUPPLEMENTARY INFORMATION: Title: 30 CFR Part 251, Geological and Geophysical (G&G) Explorations of the Outer Continental Shelf.

OMB Control Number: 1010-0048.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

The OCS Lands Act (43 U.S.C. 1340) also states that “any person authorized by the Secretary may conduct geological and geophysical explorations in the [O]uter Continental Shelf, which do not interfere with or endanger actual operations under any lease maintained or granted pursuant to this OCS Lands Act, and which are not unduly harmful to aquatic life in such area.” The section further requires that permits to conduct such activities may only be issued if it is determined that the applicant is qualified; the activities are not polluting, hazardous, or unsafe; they do not interfere with other users of the area; and do not disturb a site, structure, or object of historical or archaeological significance. Applicants for permits are required to submit form MMS-327 to provide the information necessary to evaluate their qualifications.

Regulations at 30 CFR part 251 implement these statutory requirements. We use the information to ensure there is no environmental degradation, personal harm or unsafe operations and conditions, damage to historical or archaeological sites, or interference with other uses; to analyze and evaluate preliminary or planned drilling activities; to monitor progress and activities in the OCS; to acquire G&G data and information collected under a Federal permit offshore; and to determine eligibility for reimbursement from the Government for certain costs. The information is necessary to determine if the applicants for permits or filers of notices meet the qualifications specified by the OCS Lands Act. The MMS uses information collected to understand the G&G characteristics of oil- and gas-bearing physiographic regions of the OCS. It aids the Secretary in obtaining a proper balance among the potentials for environmental damage, the discovery of oil and gas, and adverse impacts on affected coastal States. Information from permittees is necessary to determine the propriety and amount of reimbursement.

We will protect information from respondents considered proprietary under the Freedom of Information Act (5 U.S.C. 552) and its implementing regulations (43 CFR part 2) and under regulations at 30 CFR parts 250, 251, and 252. No items of a sensitive nature are collected. Responses are mandatory or required to obtain or retain a benefit.

Frequency: On occasion, annually, or as specified in permits.

Estimated Number and Description of Respondents: Approximately 150 Federal OCS permittees or notice filers.

Estimated Reporting and Recordkeeping “Hour” Burden: The estimated annual “hour” burden for this information collection is a total of 8,272 hours. The following chart details the individual components and estimated hour burdens. In calculating the burdens, we assumed that respondents perform certain requirements in the normal course of their activities. We consider these to be usual and customary and took that into account in estimating the burden.

Citation 30 CFR 251 | Reporting and recordkeeping requirement | Hour burden | Average number annual responses | Annual burden hours
251.4(a), (b); 251.5(a), (b), (d); 251.6; Permit Forms | Apply for permits (form MMS-327) to conduct G&G exploration, including deep stratigraphic tests | 6 | 148 Applications | 888
251.4(b); 251.5(c), (d); 251.6 | File notices to conduct scientific research activities, including notice to MMS prior to beginning and after concluding activities | 6 | 2 Notices | 12
251.6(b); 251.7(b)(5)(iii) | Notify MMS if specific actions should occur; report archaeological resources. (No instances reported since 1982.) | 1 | 1 Notice | 1
251.7 | Submit information on test drilling activities under a permit, including form MMS-123 | Burden included under 30 CFR 250.201, 250.203 and Form MMS-123 (1010-0049 and 1010-0044) |  | 0
251.7(c) | Enter into agreement for group participation in test drilling, including publishing summary statement; provide MMS copy of notice/list of participants. (No agreements submitted since 1989.) | 1 | 1 Agreement | 1
251.7(d) | Submit bond on deep stratigraphic test | Burden included under 30 CFR part 256 (1010-0006) |  | 0
251.8(a) | Request reimbursement for certain costs associated with MMS inspections. (No requests in many years. OCS Lands Act requires Government reimbursement.) | 1 | 1 Request | 1
251.8(b), (c) | Submit modifications to, and status/final reports on, activities conducted under a permit | 8 | 150 × 4 Reports = 600 | 4,800
251.9(c) | Notify MMS to relinquish a permit | ½ | 8 Notices | 4
251.10(c) | File appeals | Burden included under 1010-0121 |  | 0
251.11; 251.12 | Notify MMS and submit G&G data/information collected under a permit and/or processed by permittees or 3rd parties, including reports, logs or charts, results, analyses, descriptions, etc | 4 | 50 Respondents × 2 Submissions = 100 | 400
251.13 | Request reimbursement for certain costs associated with reproducing data/information | 20 | 50 Respondents × 2 Submissions = 100 | 2,000
251.14(a) | Submit comments on MMS intent to disclose data/info. to the public | 1 | 1 Comment | 1
251.14(c)(2) | Submit comments on MMS intent to disclose data/info. to an independent contractor/agent | 1 | 1 Comment | 1
251.14(c)(4) | Contractor/agent submit written commitment not to sell, trade, license, or disclose data/info. without MMS consent | 1 | 1 Commitment | 1
251.1 to 251.14 | General departure and alternative compliance requests not specifically covered elsewhere in part 251 regulations | 2 | 1 Request | 2
Permit Forms (Form MMS-327) | Request extension of permit time period | 1 | 10 Extensions | 10
Permit Forms (Form MMS-327) | Retain G&G data/information for 10 years and make available to MMS upon request | 1 | 150 Recordkeepers | 150
Total Hour Burden |  |  | 1,125 Responses | 8,272

Estimated Reporting and Recordkeeping “Non-Hour Cost” Burden: We have identified no paperwork “non-hour cost” burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on November 6, 2002, we published a Federal Register notice (67 FR 67643) announcing that we would submit this ICR to OMB for approval. The notice provided the required 60-day comment period. In addition, § 250.199 provides the OMB control number for the information collection requirements imposed by the 30 CFR part 251 regulations and forms. The regulation also informs the public that they may comment at any time on the collections of information and provides the address to which they should send comments. We have received no comments in response to these efforts.

If you wish to comment in response to this notice, you may send your comments to the offices listed under the ADDRESSES section of this notice. OMB has up to 60 days to approve or disapprove the information collection but may respond after 30 days. Therefore, to ensure maximum consideration, OMB should receive public comments by May 15, 2003.

Public Comment Policy: Our practice is to make comments, including names and home addresses of respondents, available for public review during regular business hours. Individual respondents may request that we withhold their home address from the record, which we will honor to the extent allowable by the law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: March 4, 2003.
E. P. Danenberger,
Chief, Engineering and Operations Division.

[FR Doc. 03-9139 Filed 4-14-03; 8:45 am]

BILLING CODE 4310-MR-P